DEPARTMENT OF TRANSPORTATION

Federal Highway Administration

Environmental Impact Statement: Polk County, IA

AGENCY: Federal Highway Administration (FHWA), DOT, Polk County.

SUMMARY: The FHWA and Iowa DOT are issuing this notice to advise the public an EIS will be prepared for a proposed roadway project in Polk County, Iowa. The planned EIS will evaluate potential transportation improvement alternatives for serving northeast Des Moines and its neighboring communities between I-80/US65 west of Altoona to US69/NE 126 Avenue north of Ankeny.

FOR FURTHER INFORMATION CONTACT: Michael La Pietra, Environment and Realty Manager, FHWA Iowa Division Office, 105 Sixth Street, Ames, IA 50010, Phone 515-233-7302; or James P. Rost, Director, Office of Location and Environment, Iowa Department of Transportation, 800 Lincoln Way, Ames, IA 50010, Phone 515-239-1798.

SUPPLEMENTARY INFORMATION:

Electronic Access

An electronic copy of this document is available for free download from the Federal Bulletin Board (FBB). The FBB is a free electronic bulletin board service of the Superintendent of Documents, U.S. Government Printing Office (GPO).

The FBB may be accessed in four ways: (1) Via telephone in dial-up mode or via the Internet through (2) telnet, (3) FTP, and (4) the World Wide Web. For dial-up mode a user needs a personal computer, modem, telecommunications software package, and telephone line. A hard disk is recommended for file transfers.

For Internet access a user needs Internet connectivity. Users can telnet or FTP to: fedbbs.access.gpo.gov. Users can access the FBB via the World Wide Web at http://fedbbs.access.gpo.gov.

User assistance for the FBB is available from 7 a.m. until 5 p.m., eastern time, Monday through Friday (except Federal holidays) by calling the GPO Office of Electronic Information Dissemination Services at 202-512-1530, toll-free at 888-293-6498; sending an e-mail to gpoaccess@gpo.gov; or sending a fax to 202-512-1262.

Access to this notice is also available to Internet users through the Federal Register's home page at http://www.nara.gov/fedreg.

Background

The FHWA, in cooperation with the Iowa Department of Transportation and Polk County will prepare an EIS for the proposed Northeast Beltway study. The proposed project would include roadway improvements to provide a high-speed connection from I-80 near Altoona to U.S. 69 north of Ankeny.

The purpose of the Northeast Polk County Beltway is to prepare for increased travel demand in and around Ankeny and its neighboring communities. Traffic congestion on I-35 between Des Moines and Ankeny would be alleviated, and traffic would be reduced on the Northeast systems interchange (35/80/235).

Alternatives under consideration include: (1) Taking no action; (2) widening existing roadways; and, (3) constructing a roadway on a new location. The build alternative will include consideration of various alignments and grades.

Letters describing the proposed action and soliciting comments will be sent to appropriate Federal, State, and local agencies, and to private organizations and citizens who have previously expressed or are known to have interest in this proposal. A series of public meetings will be held in 2006 and 2007. In addition, a public hearing will be held upon completion of the draft EIS. Public notice will be given of the time and place of the public meetings and public hearing. The draft EIS will be available for public and agency review and comment prior to the public hearing.

A scoping meeting (the initial public meeting) will be held identifying significant issues to be addressed in the environmental impact statement. The date and location of the scoping meeting have not yet been determined but will be advertised in various local media.

To ensure that the full range of issues related to this proposed action are addressed and all significant issues are identified, comments and suggestions are invited from all interested parties. Comments or questions concerning this proposed action and the EIS should be directed to the FHWA or Iowa Department of Transportation at the address provided in the caption FOR FURTHER INFORMATION CONTACT.

(Catalog of Federal Domestic Assistance Program Number 20.205, Highway Planning and Construction. The regulations implementing Executive Order 12372 regarding intergovernmental consultation on Federal programs and activities apply to this program.)

(Authority: 23 U.S.C. 315; 49 CFR 1.48).

Dated: April 28, 2006.
Philip E. Barnes,
Division Administrator FHWA, Iowa Division.

[FR Doc. E6-6802 Filed 5-4-06; 8:45 am]

BILLING CODE 4910-22-P